FEDERAL COMMUNICATIONS COMMISSION

47 CFR Part 73

[DA 03-2350; MB Docket No. 03-25, RM-10637]

Radio Broadcasting Services; Basin City and Othello, WA

AGENCY: Federal Communications Commission.

ACTION: Final rule.

SUMMARY: The Audio Division, at the request of Wheeler Broadcasting, Inc., substitutes Channel 248C2 for Channel 248C3 at Othello, Washington, reallots Channel 248C2 to Basin City, Washington, and modifies Station KLZN's license accordingly. Channel 248C2 can be allotted to Basin City, Washington, in compliance with the Commission's minimum distance separation requirements with a site restriction of 7.2 km (4.5 miles) north of Basin City. The coordinates for Channel 248C2 at Basin City, Washington, are 46-39-26 North Latitude and 119-10-23 West Longitude.

DATES: Effective September 29, 2003.

FOR FURTHER INFORMATION CONTACT: Deborah Dupont, Media Bureau, (202) 418-2180.

SUPPLEMENTARY INFORMATION: This is a synopsis of the Commission's Report and Order, MB Docket No. 03-25, adopted July 23, 2003, and released July 24, 2003. The full text of this Commission decision is available for inspection and copying during normal business hours in the FCC Information Center, Portals II, 445 12th Street, SW., Room CY-A257, Washington, DC 20554. The complete text of this decision may also be purchased from the Commission's duplicating contractor, Qualex International, Portals II, 445 12th Street, SW., Room CY-B402, Washington, DC, 20554, (202) 863-2893, facsimile (202) 863-2898, or via e-mail qualexint@aol.com.

List of Subjects in 47 CFR Part 73

Radio, Radio broadcasting.

Part 73 of title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Washington, is amended by adding Basin City, Channel 248C2, and by removing Othello, Channel 248C3.

Federal Communications Commission.
John A. Karousos,
Assistant Chief, Audio Division, Media Bureau.

[FR Doc. 03-21505 Filed 8-21-03; 8:45 am]

BILLING CODE 6712-01-P